DEPARTMENT OF AGRICULTURE

Forest Service

36 CFR Part 242

DEPARTMENT OF THE INTERIOR

Fish and Wildlife Service

50 CFR Part 100

RIN 1018-AU92

Subsistence Management Regulations for Public Lands in Alaska; Kenai Peninsula Subsistence Resource Region

AGENCIES: Forest Service, Agriculture; Fish and Wildlife Service, Interior.

ACTION: Proposed rule; withdrawal.

SUMMARY: We, the Federal Subsistence Board, are withdrawing the proposed rule to amend the regulations governing subsistence use of fish and wildlife in Alaska by creating an additional subsistence resource region for the Kenai Peninsula. We received significant adverse comments on our proposal, and we have decided not to pursue this action.

DATES: The proposed rule published at 71 FR 46427, August 14, 2006 and extended at 71 FR 56421, September 27, 2006 is withdrawn effective July 22, 2009.

FOR FURTHER INFORMATION CONTACT: For Forest Service questions, contact Calvin H. Casipit, Acting Regional Subsistence Program Leader, USDA-FS Alaska Region, at (907) 586-7918. For Fish and Wildlife Service questions, contact Peter J. Probasco at (907) 786-3888.

SUPPLEMENTARY INFORMATION:

Background

Under Title VIII of the Alaska National Interest Lands Conservation Act (ANILCA) (16 U.S.C. 3111-3126), the Secretary of the Interior and the Secretary of Agriculture (Secretaries) jointly implement the Federal Subsistence Management Program. This program grants a preference for subsistence uses of fish and wildlife resources on Federal public lands and waters in Alaska. The Secretaries first published regulations to carry out this program in the Federal Register on May 29, 1992 (57 FR 22940). The Program has subsequently amended these regulations several times. Because this program is a joint effort between Interior and Agriculture, these regulations are located in two titles of the Code of Federal Regulations (CFR): Title 36, “Parks, Forests, and Public Property,” and Title 50, “Wildlife and Fisheries,” at 36 CFR 242.1-28 and 50 CFR 100.1-28, respectively. The regulations contain subparts as follows: Subpart A, General Provisions; Subpart B, Program Structure; Subpart C, Board Determinations; and Subpart D, Subsistence Taking of Fish and Wildlife.

Federal Subsistence Board

Consistent with subpart B of these regulations, the Departments established a Federal Subsistence Board to administer the Federal Subsistence Management Program. The Board is made up of:

• Chair appointed by the Secretary of the Interior with concurrence of the Secretary of Agriculture;

• Alaska Regional Director, U.S. Fish and Wildlife Service;

• Alaska Regional Director, U.S. National Park Service;

• Alaska State Director, U.S. Bureau of Land Management;

• Alaska Regional Director, U.S. Bureau of Indian Affairs; and

• Alaska Regional Forester, U.S. Forest Service.

Through the Board, these agencies participate in the development of regulations for subparts A, B, and C, which set forth the basic program, and they continue to work together on regularly revising the subpart D regulations, which, among other things, set forth specific harvest seasons and limits.

Federal Subsistence Regional Advisory Councils

In administering the program, the Secretaries divided Alaska into 10 subsistence resource regions, each of which is represented by a Regional Council. The Regional Councils provide a forum for rural residents with personal knowledge of local conditions and resource requirements to have a meaningful role in the subsistence management of fish and wildlife on Federal public lands in Alaska. The Regional Council members represent varied geographical, cultural, and user diversity within each region.

Kenai Peninsula

The Kenai Peninsula in Alaska has unique fish and wildlife management challenges resulting from intense use of the Peninsula's fish and wildlife by local and nonlocal residents and by nonresidents and from the Board's actions to provide a meaningful subsistence priority for fisheries in Federally managed fresh waters on the Kenai Peninsula. Kenai Peninsula lands primarily under Federal management include the Chugach National Forest and the Kenai National Wildlife Refuge. The Departments published a proposed rule in the Federal Register on August 14, 2006 (71 FR 46427), to create a separate subsistence resource region for the Kenai Peninsula and requested public comments until September 18, 2006. On September 27, 2006, we published a document to extend the comment period on this proposed rule until November 9, 2006 (71 FR 56421).

Withdrawal of Proposed Rule

During a Southcentral Federal Subsistence Regional Advisory Council meeting held in Anchorage, Alaska on August 24, 2006, we heard significant adverse testimony regarding the creation of a new Kenai Peninsula Subsistence Resource Region. Additionally, the Southcentral Regional Council unanimously recommended against the formation of such a region. Letters from the public also strongly opposed the formation of such a region. Therefore, we are withdrawing the proposed rule.

For the reasons stated above, the Federal Subsistence Board withdraws the proposed rule of August 14, 2006 (71 FR 46427).

Dated: June 18, 2009.
Peter J. Probasco,
Acting Chair, Federal Subsistence Board.
Dated: June 18, 2009.
Calvin H. Casipit,
Acting Subsistence Program Leader, USDA—Forest Service.

[FR Doc. E9-17283 Filed 7-21-09; 8:45 am]

BILLING CODE 3410-11-P, 4310-55-P